DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than October 2, 2015.

Interested persons are invited to submit written comments regarding the subject matter of the investigations to the Director, Office of Trade Adjustment Assistance, at the address shown below, not later than October 2, 2015.

The petitions filed in this case are available for inspection at the Office of the Director, Office of Trade Adjustment Assistance, Employment and Training Administration, U.S. Department of Labor, Room N-5428, 200 Constitution Avenue, NW., Washington, DC 20210.

Signed at Washington, DC this 27th day of July 2015.
Del Min Amy Chen,
Certifying Officer, Office of Trade Adjustment Assistance.

Appendix

84 TAA Petitions Instituted Between 7/27/15 and 8/24/15
TA-W | Subject firm (petitioners) | Location | Date of institution | Date of petition
90061 | Sentry Safe—Schwab (Company) | Cannelton, IN | 07/27/15 | 07/24/15
90062 | Hutchinson Technology Inc. (Company) | Eau Claire, WI | 07/27/15 | 07/24/15
90063 | Oerlikon Fairfield (Workers) | Lafayette, IN | 07/27/15 | 07/18/15
90064 | Office Depot, Inc. (Workers) | Ottawa, IL | 07/27/15 | 07/24/15
90065 | Capital One (State/One-Stop) | Tigard, OR | 07/27/15 | 07/24/15
90066 | Guardian Industries (Union) | Jefferson Hills, PA | 07/28/15 | 07/21/15
90067 | Frutarom USA Inc. (Workers) | North Bergen, NJ | 07/28/15 | 07/28/15
90068 | Office Depot, Inc. (Workers) | Peru, IL | 07/28/15 | 07/27/15
90069 | First Advantage (Workers) | Watertown, SD | 07/28/15 | 07/24/15
90070 | Domestic Casting, LLC (Workers) | Shippenburg, PA | 07/28/15 | 07/23/15
90071 | RR Donnelley (Workers) | Lancaster, PA | 07/28/15 | 07/27/15
90072 | Leam (Workers) | OKC, OK | 07/28/15 | 07/27/15
90073 | Process Manufacturing (State/One-Stop) | Tulsa, OK | 07/28/15 | 07/27/15
90074 | IPS—Engineering (State/One-Stop) | Tulsa, OK | 07/28/15 | 07/27/15
90075 | Symantec Corporation (State/One-Stop) | Springfield, OR | 07/29/15 | 07/28/15
90076 | Office Depot, Inc. (Workers) | Bristol, VA | 07/29/15 | 07/28/15
90077 | DENTSPLY International Inc. (Company) | York, PA | 07/30/15 | 07/29/15
90078 | Feralloy Corperation (Union) | Granite City, IL | 07/30/15 | 07/29/15
90079 | A&H Sportswear (Union) | Nazareth, PA | 07/30/15 | 07/29/15
90080 | Mercy Medical Center (State/One-Stop) | Des Moines, IA | 07/30/15 | 07/29/15
90081 | Johnson Crusher International (State/One-Stop) | Eugene, OR | 07/30/15 | 07/29/15
90082 | JDS Uniphase (Workers) | Bloomfield, CT | 07/30/15 | 07/29/15
90083 | Hewlett-Packard Co. (State/One-Stop) | Corvallis, OR | 07/30/15 | 07/29/15
90084 | Pacific Interpreters (State/One-Stop) | Portland, OR | 07/30/15 | 07/30/15
90085 | Sprint (State/One-Stop) | Irvine, TX | 07/30/15 | 07/28/15
90086 | American Express (Workers) | Salt Lake City, UT | 07/31/15 | 07/30/15
90087 | ClosetMaid (State/One-Stop) | Chino, CA | 08/03/15 | 07/31/15
90088 | Rehme Manufacturing (Workers) | Marlow, OK | 08/03/15 | 07/31/15
90089 | Delphi Connection Systems (Workers) | Irvine, CA | 08/03/15 | 07/31/15
90090 | Hallmark Marketing Company & Hallmark Cards (State/One-Stop) | Enfield, CT | 08/03/15 | 07/31/15
90091 | Industrial Television Service Inc. (State/One-Stop) | Boston, MA | 08/03/15 | 07/31/15
90092 | Geokinetics Inc. (State/One-Stop) | Houston, TX | 08/03/15 | 07/31/15
90093 | T-Shirt International Inc. (Company) | Culloden, WV | 08/03/15 | 07/31/15
90094 | Dex Media (Union) | Middleton, MA | 08/03/15 | 07/27/15
90095 | Simpson Lumber Mill 5 (Union) | Shelton, WA | 08/03/15 | 07/31/15
90096 | Crif Lending Solutions (State/One-Stop) | Baton Rouge, LA | 08/04/15 | 08/03/15
90097 | Sandvik Bristol, VA (Company) | Bristol, VA | 08/04/15 | 08/03/15
90098 | Quest Diagnostics (Workers) | Madison, NJ | 08/04/15 | 07/31/15
90099 | Smiths Medical ASD. Inc. (Workers) | Rockland, MA | 08/04/15 | 07/30/15
90100 | Century Aluminum of West Virginia Inc. (Union) | Ravenswood, WV | 08/04/15 | 08/04/15
90101 | Vallourec Star (Company) | Youngstown, OH | 08/05/15 | 08/04/15
90102 | Apex Tool Group, LLC (Company) | Cortland, NY | 08/05/15 | 08/04/15
90103 | Erickson Inc (Evergreen) (State/One-Stop) | McMinnville, OR | 08/05/15 | 08/04/15
90104 | CP Medical (State/One-Stop) | Portland, OR | 08/05/15 | 08/04/15
90105 | Intel (State/One-Stop) | Hillsboro, OR | 08/05/15 | 08/04/15
90106 | Grede Wisconsin Subsidiaries LLC (Workers) | Berlin, WI | 08/05/15 | 08/04/15
90107 | Morgan Stanley (State/One-Stop) | New York, NY | 08/05/15 | 08/05/15
90108 | Parker Hannifan (Workers) | New Haven, IN | 08/06/15 | 08/05/15
90109 | Echo Bay Minerals Company (Kinross) (State/One-Stop) | Republic, WA | 08/06/15 | 07/31/15
90110 | Boise (State/One-Stop) | International Falls, MN | 08/07/15 | 08/06/15
90111 | Coastal Closeouts, Inc dba West Coast Rags (State/One-Stop) | Vernon, CA | 08/07/15 | 08/06/15
90112 | Mondelez (State/One-Stop) | Chicago, IL | 08/07/15 | 08/06/15
90113 | Precision-Paragon, A Division of Hubbell Lighting, Inc. (State/One-Stop) | Yorba Linda, CA | 08/07/15 | 08/06/15
90114 | FutureMark Manistique (Union) | Manistique, MI | 08/10/15 | 08/09/15
90115 | Maersk Agency USA Inc. (Company) | The Woodlands, TX | 08/10/15 | 08/09/15
90116 | Riverside Veneer (State/One-Stop) | Heuvelton, NY | 08/10/15 | 08/07/15
90117 | Nordyne LLC (State/One-Stop) | St. Louis, MO | 08/10/15 | 08/06/15
90118 | RR Donnelley (State/One-Stop) | Philadelphia, PA | 08/10/15 | 08/07/15
90119 | Discover Financial Services (Company) | Pittsford, NY | 08/11/15 | 08/10/15
90120 | Kelly-Smith Printing & Paper (Company) | Newport, ME | 08/11/15 | 08/10/15
90121 | Symantec (Workers) | Springfield, OR | 08/11/15 | 08/10/15
90122 | Allied Tube & Conduit/TJ Cope (Union) | Philadelphia, PA | 08/11/15 | 08/10/15
90123 | Transtar Inc./Lake Terminal Railroad (Workers) | Lorain, OH | 08/11/15 | 08/10/15
90124 | McKesson (Workers) | Carrollton, TX | 08/11/15 | 08/10/15
90125 | Owens-Illinois (Union) | Oakland, CA | 08/24/15 | 08/11/15
90126 | Sealed Air Corporation (Company) | Greenville, SC | 08/24/15 | 08/11/15
90127 | Halliburton (Workers) | Homer City, PA | 08/24/15 | 08/11/15
90128 | Market Strategies (State/One-Stop) | Clifton Park, NY | 08/24/15 | 08/13/15
90129 | Newark Corporation (Company) | Richfield, OH | 08/24/15 | 08/12/15
90130 | US Textile (State/One-Stop) | Lancaster, SC | 08/24/15 | 08/12/15
90131 | AP Green Refractories/Harbison Walker International (Workers) | Oak Hill, OH | 08/24/15 | 08/14/15
90132 | Flint Energy Services (URS or AECOM) (State/One-Stop) | Tulsa, OK | 08/24/15 | 08/14/15
90133 | Eastland Shoe Corporation (State/One-Stop) | Freeport, ME | 08/24/15 | 08/14/15
90134 | Brown Brothers Harriman (Workers) | New York, NY | 08/24/15 | 08/17/15
90135 | McCarthy Tire Service Co. (Union) | Somerset, PA | 08/24/15 | 08/11/15
90136 | Modine Manufacturing Company (State/One-Stop) | Jefferson City, MO | 08/24/15 | 08/10/15
90137 | Avago Technologies/CyOptics Inc (Workers) | Breinigsville, PA | 08/24/15 | 08/19/15
90138 | ATS Automation Tooling Systems Oregon (State/One-Stop) | Corvallis, OR | 08/24/15 | 08/18/15
90139 | Jabil Circuit (Workers) | Memphis, TN | 08/24/15 | 08/19/15
90140 | Century Aluminum of West Virginia Inc. (Union) | Ravenswood, WV | 08/24/15 | 08/04/15
90141 | Capital One (State/One-Stop) | Sioux Falls, SD | 08/24/15 | 07/31/15
90142 | John Deere Seeding Group (Union) | Moline, IL | 08/24/15 | 08/13/15
90143 | Haggen (State/One-Stop) | Bellingham, WA | 08/24/15 | 08/19/15
90144 | Arvato Digital Services (Company) | Reno, NV | 08/24/15 | 08/18/15

[FR Doc. 2015-24002 Filed 9-21-15; 8:45 am]

BILLING CODE 4510-FN-P